SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before August 5, 2003.

ADDRESSES: Send all comments regarding whether this information collection is necessary for the proper performance of the function of the agency, whether the burden estimates are accurate, and if there are ways to minimize the estimated burden and enhance the quality of the collection, to Stephen Kucharski, Financial Assistance Specialist, Office of Financial Assistance, Small Business Administration, 409 3rd Street, SW., Suite 8300, Washington, DC 20416.

FOR FURTHER INFORMATION CONTACT: Stephen Kucharski, Financial Assistance Specialist, 202-205-7551 or Curtis B. Rich, Management Analyst, 202-205-7030.

SUPPLEMENTARY INFORMATION: Title: “SBAExpress Data Collection; Eligibility Information Required for SBAExpress Submission, SBAExpress Loan Number Request (Parts A & B), PLP/SBAExpress Servicing Checklist, SBA Express & Community Express Borrower Information Form, SBA Express Authorization and Supplementary Loan Guarantee Agreement.”

Form Nos.: 1918, 1919, 1920, 2091, 2092, 2232.

Description of Respondents: Participating Lending Institutions with an active lending agreement.

Annual Responses: 20,000.

Annual Burden: 20,000.

Jacqueline White,
Chief, Administrative Information Branch.

[FR Doc. 03-14298 Filed 6-5-03; 8:45 am]

BILLING CODE 8025-01-P